OFFICE OF PERSONNEL MANAGEMENT

Privacy Act of 1974; System of Records—OPM/Internal-23 Financial Management Records

AGENCY: U.S. Office of Personnel Management, Office of the Chief Financial Officer.

ACTION: Notice of a modified system of records.

SUMMARY: In accordance with the Privacy Act of 1974, the Office of Personnel Management (OPM) proposes to modify and republish its existing system of records titled “OPM/Internal-23 Financial Management Records.” This system of records contains financial records that OPM collects, maintains, and uses to manage its critical financial responsibilities. This modified system of records will be included in OPM's inventory of record systems.

DATES: Please submit comments on or before April 17, 2023. This modified system is applicable upon publication in today's Federal Register.

ADDRESSES: You may submit written comments via the Federal Rulemaking Portal: http://www.regulations.gov. All submissions received must include the agency name and docket number for this Federal Register document. The general policy for comments and other submissions from members of the public is to make these submissions available for public viewing on the internet at http://www.regulations.gov as they are received without change, including any personal identifiers or contact information.

FOR FURTHER INFORMATION CONTACT: For general questions, please contact: Erica Roach, Senior Program Manager, Office of the Chief Financial Officer, Office of Personnel Management, at OPMFinApps@opm.gov. For privacy questions, please contact Kellie Cosgrove Riley, Chief Privacy Officer, Office of Personnel Management, at privacy@opm.gov.

SUPPLEMENTARY INFORMATION: The Office of Personnel Management (OPM) is modifying and republishing the OPM/Internal-23 Financial Management Records system of records in order to effectuate some administrative changes and provide additional clarity and transparency regarding its financial records. OPM's Office of the Chief Financial Officer (OCFO) uses the records in this system of records to support its financial management obligations and successfully implement OPM OCFO's internal and external budget and finance responsibilities.

These records are a comprehensive source of financial, budget, and performance information for OPM. They include records pertaining to purchasing, accounts receivables, accounts payable, disbursements, and other budget activities. The records are used for billing and collection, project costing, retirement, health and life insurance contributions and collections, and funds control, as well as to update budgets, financial plans, and the general ledger. The records include those that are used to support the acquisition management lifecycle, from requisitioning through source selection, award, post-award management, blanket purchase agreements, interagency agreements, and closeout. The records are also critical to required financial auditing and reporting requirements.

This system of records does not include those records used to administer OPM's pay, leave, and travel requirements or the administration of the fare subsidy program, which are included in the OPM Internal-5 Pay, Leave, and Travel system of records. It also does not include records that are used to enable travel service providers under contract to the Federal Government to authorize, issue, or account for travel and travel reimbursements provided to individuals on official Federal Government business, which are covered under GSA/GOVT-4 Contracted Travel Services Program, 74 FR 26700 (June 3, 2009), and GSA/GOVT-4. Contracted Travel Services Program, 74 FR 28048 (June 12, 2009).

OPM is modifying this system of records notice to:

(1) Name the agency's Chief Financial Officer as the System Manager.

(2) Update the Categories of Records to clearly include records related to retirement benefits and health and life insurance and to add account claim number and the Unique Entity Identity (UEI), which replaces the DUNS number in the financial records.

(3) Update the Purpose section to clearly address the collection of records related to the management of financial records related to the retirement and health and life insurance programs.

(4) Update the Authorities to include those attendant to the retirement and health and life insurance programs.

(5) Add an additional location to the System Location section to reflect the location of records subject to an inter-agency agreement with the Department of Treasury.

(6) Update the Records Source Categories to include the Department of Labor, which provides financial records to OPM relevant to workers' compensation cases.

OPM provided a report of this modified system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016. OPM will include this system in its inventory of record systems.

U.S. Office of Personnel Management.
Stephen Hickman,
Federal Register Liaison.

SYSTEM NAME AND NUMBER:

Financial Management Records, OPM/Internal-23.

SECURITY CLASSIFICATION:

Unclassified.

SYSTEM LOCATION:

The Office of the Chief Financial Officer, Office of Personnel Management is responsible for the records in this system of records. Records are located at 1900 E Street NW, Washington, DC; pursuant to an inter-agency agreement with the Department of Transportation, Federal Aviation Authority, Enterprise Resource Center, in Oklahoma City, Oklahoma; and, pursuant to an inter-agency agreement with the Department of Treasury, Bureau of the Fiscal Service (Fiscal Service) Administrative Resource Center (ARC), in Parkersburg, West Virginia.

SYSTEM MANAGER(S):

Chief Financial Officer, Office of Personnel Management, 1900 E Street NW, Washington, DC 20415-1100.

AUTHORITY FOR MAINTENANCE OF THE SYSTEM:

31 U.S.C. Title 31, Subtitles II and III; Public Law 101-576; Public Law 104-208; 5 U.S.C. 8334 (CSRS retirement); 5 U.S.C. 8422 and 8423 (FERS retirement); 5 U.S.C. 8906 (health), 5 U.S.C. 8708 (life); 5 CFR 831.111 (CSRS retirement); 5 CFR 841 Subpart D and Subpart E (FERS retirement); 5 CFR 890.501 (health); 5 CFR 870 Subpart D (life); OMB Circular A-123; OMB Memorandum 16-11; OMB Memorandum 13-08, OMB Memorandum M-19-16, Executive Order 9397, as amended by Executive Order 13478.

PURPOSE(S) OF THE SYSTEM:

The purpose of this system of records is to permit OPM to collect and maintain records to administer its financial management responsibilities. This includes conducting all activities related to accounts receivable and accounts payable, budgeting, purchasing, acquisitions, reimbursement, settlements, and debt collections for OPM. It also includes Trust Funds financial management responsibilities in support of the Federal retirement and health and life insurance benefits programs. The records in this system of records are also used to meet financial auditing and reporting requirements, both within OPM and external to OPM, such as to other Federal and private sector entities as required and necessary in accordance with existing laws and regulations; and to support the acquisition management lifecycle, from requisitioning through source selection, award, post award management, blanket purchase agreements, interagency agreements, and closeout.

CATEGORIES OF RECORDS:

a. Name,

b. Social Security number,

c. Bank account information,

d. Credit card number,

e. Data Universal Numbering System (DUNS) number,

f. Unique Entity Identifier (UEI),

g. Account claim number,

h. Employee identification number,

i. Tax identification number,

j. addresses and other general contact information, such as phone numbers, facsimile numbers, and email addresses,

k. records of expenses, such as bills, receipts,

l. records of payments,

m. invoices, and

n. any other record necessary to document and make payment for a financial obligation owed to or from OPM.

Records in this system are subject to the Privacy Act only to the extent, if any, they are about an individual within the meaning of the Act, and not if they are about a business or other non-individual.

RECORD SOURCE CATEGORIES:

Records are obtained from individuals to whom OPM has a financial obligation, individuals who are indebted to OPM, OPM program offices, the Department of the Treasury, the Department of Labor, and the General Services Administration.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside OPM as a routine use pursuant to 5 U.S.C. 552a(b)(3) as follows:

a. To the Department of Justice, including Offices of the U.S. Attorneys; another Federal agency conducting litigation or in proceedings before any court, adjudicative, or administrative body; another party in litigation before a court, adjudicative, or administrative body; or to a court, an adjudicative body, or an administrative body. Such disclosure is permitted only when it is relevant or necessary to the litigation or proceeding and one of the following is a party to the litigation or has an interest in such litigation: (1) OPM, or any component thereof; (2) Any employee or former employee of OPM in his or her official capacity; (3) Any employee or former employee of OPM in his or her individual capacity where the Department of Justice or OPM has agreed to represent the employee; (4) The United States, a Federal agency, or another party in litigation before a court, adjudicative, or administrative body, upon the OPM General Counsel's approval, pursuant to 5 CFR part 295 or otherwise.

b. To the appropriate Federal, State, or local agency responsible for investigating, prosecuting, enforcing, or implementing a statute, rule, regulation, or order, when a record, either on its face or in conjunction with other information, indicates or is relevant to a violation or potential violation of civil or criminal law or regulation.

c. To a member of Congress from the record of an individual in response to an inquiry made at the request of the individual to whom the record pertains.

d. To the National Archives and Records Administration (NARA) for records management inspections being conducted under the authority of 44 U.S.C. 2904 and 2906.

e. To appropriate agencies, entities, and persons when (1) OPM suspects or has confirmed that there has been a breach of the system of records; (2) OPM has determined that, as a result of the suspected or confirmed breach, there is a risk of harm to individuals, OPM (including its information systems, programs, and operations), the Federal Government, or national security; and (3) the disclosure made to such agencies, entities, and persons is reasonably necessary to assist in connection with OPM's efforts to respond to the suspected or confirmed breach or to prevent, minimize, or remedy such harm.

f. To another Federal agency or Federal entity, when OPM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

g. To contractors, grantees, experts, consultants, or volunteers performing or working on a contract, service, grant, cooperative agreement, or other assignment for OPM when OPM determines that it is necessary to accomplish an agency function related to this system of records. Individuals provided information under this routine use are subject to the same Privacy Act requirements and limitations on disclosure as are applicable to OPM employees.

h. To an external auditor for the purpose of performing audit or oversight operations as authorized by law, but only such information as is necessary and relevant to such audit or oversight function.

i. To the Equal Employment Opportunity Commission, the Merit Systems Protection Board, the Federal Labor Relations Authority, or other person or entity responsible for the administration of the Federal Labor Management Program, for the purpose of processing any corrective actions, presiding over grievances, or conducting administrative hearings or appeals, or if needed in the performance of similar authorized duties.

j. To the United States Department of the Treasury to verify eligibility for payment and to effect disbursement of authorized payments.

k. To the United States Department of the Treasury in order to identify programs and activities susceptible to improper payments in accordance with the Improper Payment Information Act of 2002 and the Improper Payments Elimination and Recovery Act of 2010.

l. To the General Service Administration's Federal Procurement Data System, a central repository for statistical information on Government contracting, information pertaining to OPM's acquisition activities for the purpose of providing public access to Government-wide data about agency contract actions.

m. To a Federal, state, or local agency for the purpose of adjudicating an individual's eligibility for a benefit or for any other legally mandated purpose in accordance with its authorizing statute or regulation where an approved Computer Matching Agreement or other information sharing agreement is in place between OPM and the agency.

n. To another Federal agency to obtain financial management services for OPM under a cross-servicing or inter-agency agreement, including for budgeting, purchasing, procurement, reimbursement, reporting, and collection functions.

o. To the Department of Justice, another Federal agency, or a debt collection agency for any purpose related to collecting a debt owed to the Federal government.

p. To consumer reporting agencies, as defined in the Fair Credit Reporting Act (15 U.S.C. 1681a(f) or the Federal Claims Collection Act of 1966 (31 U.S.C. 3701(a)(3)), pursuant to 5 U.S.C. 552a(b)(12) and in accordance with 31 U.S.C. 3711(e).

POLICIES AND PRACTICES FOR RETRIEVAL OF RECORDS:

The records may be retrieved by name, DUNs, UEIs, Social Security number, tax identification number, claim number, or other personal identifiers available in this system of records.

POLICIES AND PRACTICES FOR RETENTION AND DISPOSAL OF RECORDS:

The records in this system of records are retained and disposed of in accordance with General Records Schedule 1.1. The record schedule requires that the records be destroyed six years after final payment or cancellation, but longer retention is authorized if required for business use.

ADMINISTRATIVE, TECHNICAL, AND PHYSICAL SAFEGUARDS:

Records in this system of records are protected from unauthorized access and misuse through various administrative, technical and physical security measures. OPM's security measures are in compliance with the Federal Information Security Modernization Act (Pub. L. 113-283), associated Office of Management and Budget policies, and applicable standards and guidance from the National Institute of Standards and Technology. Strict controls have been imposed to minimize the risk of compromising the information that is stored. Access to the paper and electronic records in this system of records is limited to those individuals who have a need to know the information for the performance of their official duties and who have appropriate clearances or permissions.

RECORD ACCESS PROCEDURES:

Individuals seeking notification of and access to their records in this system of records may submit a request in writing to the Office of Personnel Management, Office of Privacy and Information Management—FOIA, 1900 E Street NW, Washington, DC 20415-7900 or by emailing foia@opm.gov.

Individuals must furnish the following information for their records to be located:

1. Full name.

2. Social Security number or Tax identification number.

3. Claim number, where applicable.

4. The type of information requested.

5. The address to which the information should be sent.

Individuals requesting access must also comply with OPM's Privacy Act regulations regarding verification of identity and access to records (5 CFR 297).

CONTESTING RECORD PROCEDURES:

Individuals wishing to request amendment of records about them should write to the Office of Personnel Management, Office of Privacy and Information Management—FOIA, 1900 E Street NW, Washington, DC 20415-7900, ATTN: OPM CFO; or by emailing foia@opm.gov. Requests for amendment of records should include the words “PRIVACY ACT AMENDMENT REQUEST” in capital letters at the top of the request letter or in the subject line of the email. Individuals must furnish the following information in writing for their records to be located:

1. Full name.

2. Social Security number or Tax identification number.

3. Claim number, if applicable.

4. Precise identification of the information to be amended.

Individuals requesting amendment must also follow OPM's Privacy Act regulations regarding verification of identity and amendment to records (5 CFR 297).

NOTIFICATION PROCEDURES:

See “Record Access Procedure.”

EXEMPTIONS PROMULGATED FOR THE SYSTEM:

None.

HISTORY:

86 FR 23441 (May 3, 2021).

[FR Doc. 2023-05346 Filed 3-15-23; 8:45 am]

BILLING CODE 6325-67-P